DEPARTMENT OF JUSTICE

Drug Enforcement Administration

Importer of Controlled Substances; Notice of Registration

By Notice dated May 10, 2007 and published in the Federal Register on May 18, 2007, (72 FR 28077), Penick Corporation, 33 Industrial Park Road, Pennsville, New Jersey 08070, made application by renewal to the Drug Enforcement Administration (DEA) to be registered as an importer of the basic classes of controlled substances listed in schedule II:

Drug | Schedule
Coca Leaves (9040) | II
Raw Opium (9600) | II
Poppy Straw (9650) | II
Concentrate of Poppy Straw (9670) | II

The company plans to import the listed controlled substances to manufacture bulk controlled substance intermediates for sale to its customers.

No comments or objections have been received. DEA has considered the factors in Title 21, United States Code (U.S.C.) § 823(a) and § 952(a) and determined that the registration of Penick Corporation to import the basic classes of controlled substances is consistent with the public interest and with United States obligations under international treaties, conventions, or protocols in effect on May 1, 1971, at this time. DEA has investigated Penick Corporation to ensure that the company's registration is consistent with the public interest. The investigation has included inspection and testing of the company's physical security systems, verification of the company's compliance with state and local laws, and a review of the company's background and history. Therefore, pursuant to Title 21, U.S.C. 952(a) and 958(a), and in accordance with Title 21, Code of Federal Regulations (CFR) § 1301.34, the above named company is granted registration as an importer of the basic classes of controlled substances listed.

Dated: July 31, 2007.
Joseph T. Rannazzisi,
Deputy Assistant Administrator, Office of Diversion Control, Drug Enforcement Administration.

[FR Doc. E7-15515 Filed 8-8-07; 8:45 am]

BILLING CODE 4410-09-P